DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 55859-55860, dated September 23, 2005) is amended to reflect the establishment of the Office of Enterprise Communication, within the Office of the Director, Centers for Disease Control and Prevention.

Section C-B, Organization and Functions, is hereby amended as follows:

Delete in its entirety the titles and functional statements for the Office of the Executive Secretariat (CAH) and the Office of Program Planning and Evaluation (CA4).

Revise the functional statement for the Management Analysis and Policy Branch (CAJ64), Management Analysis and Services Officer (CAJ6), Office of the Chief Operating Officer (CAJ), be deleting item (3) of the functional statement and renumber the remaining items accordingly.

After the mission statement for the Office of Chief of Public Health Practice (CAR), insert the following:

Office of Enterprise Communication (CAU). The mission of the Office of Enterprise Communication (OEC) is to assure the Centers for Disease Control and Prevention's (CDC) leadership role in promoting public health and preventing disease by fostering an enterprise-wide culture that ensures coordination and prompt response to urgent issues and concerns; anticipating and elevating issues that shape the agency's position; upholding and safeguarding our credibility and the confidence of employees, partners and public; and promoting effective and efficient communication networks. To carry out its mission, OEC: (1) Plans, directs, coordinates, and facilitates communication activities related to policy issues and situations with serious and cross-cutting potential organizational impact; (2) provides leadership, technical assistance, and consultation to the agency's coordinating centers/coordinating offices (CC/CO), national centers (NC), and offices in reputational risk communication and reputational management; (3) provides leadership, technical assistance, and consultation to the agency's CC/COs, NCs, and offices in establishing best business communication practices and strategic principles to maximize effectiveness; (4) conducts environmental scanning to determine emerging threats to the agency's reputation; (5) implements external communication strategies to promote and protect the agency's brand; (6) provides guidance on best practices in internal and external communication; (7) assists the CC/COs, their NCs, and partners in identifying and building needed expertise and state-of-the-art technology, logistical support, and other capacities required for effective external and internal policy/public affairs communication, and media relations; (8) positions the agency to respond quickly, fairly, openly, and honestly to challenges and potential problems; (9) maintains liaison with officials from the Department of Health and Human Services (DHHS), other federal and state public health agencies, and private sector organizations to coordinate communication programs and strategies of mutual concern; and (10) identifies and promotes the use of the latest information technologies to support and coordinate CDC's enterprise-wide communication efforts throughout the CC/COs.

Office of the Director (CAU1). (1) Ensures CDC communication activities follow policy directions established by DHHS; (2) establishes and interprets policies and determines priorities for communicating the value and benefits of CDC programs; (3) establishes, administers, and coordinates CDC's media relations policies in a manner to ensure that communication efforts reflect the scientific integrity of all CDC research, programs, and activities, and that such information is factual, accurate, and targeted toward improving public health; (4) provides leadership and guidance on developing and implementing external public relations strategies to communicate upward and outward to customers, partners, and other stakeholders; (5) provides leadership and guidance on developing and implementing internal public relations strategies to communicate to the agency's workforce; (6) facilitates coordination throughout the agency to ensure the use of consistent and repetitive messages that achieve awareness and understanding; (7) facilitates coordination throughout the agency to ensure the distribution of messages through the right channels and to the appropriate audience; (8) provides guidance on leadership communication effectiveness; (9) provides leadership in the development and implementation of proactive strategies and practices for effective issue management and public affairs activities; (10) provides leadership and guidance in using efficient and transparent processes to communicate the decision-making activities of CDC's leadership; (11) facilitates the activation of situation-specific teams of experts and specialists to develop and implement communication strategies to respond to, and resolve, controversial public issues, influence public attitude and perception, and support and promote the business of the agency in a scientific and positive manner; and (12) creates and maintains liaisons with the Coordinating Centers' Enterprise Communication Officers and Strategy and Innovation Officers, Executive Leadership Board, CDC Foundation, and Emergency Communications System to monitor and respond to issues that are a threat to the business of the agency.

CDC Connects (CAU12). (1) Designs, plans, organizes, develops, and implements employee communications activities; (2) plans, develops, writes, and edits articles about employees and their work; (3) provides channel for publicizing employee achievements and awards, program accomplishments, and introducing management; (4) provides centralized access to all tools and information held on the Intranet; (5) provides the central point of contact to CDC for the CDC Intranet; (6) provides the central point of reference for CDC announcements; (7) provides the policy review and clearance of materials to be posted on CDC Connects; (8) provides leadership in the development and branding of CDC's Intranet sites/pages; (9) creates and maintains liaison with the CC/COs and NCs to share information about employee communication; (10) develops strategies for CDC's leaders in developing and disseminating information through CDC Connects; (11) coordinates with the DHHS on CDC Intranet and CDC Connects activities; (12) assists the CC/COs and NCs in meeting their employee communication needs and priorities; (13) provides training and technical assistance to CDC staff about employee communication via CDC Connects, and provides timely and appropriate responses to inquiries and feedback from CDC employees; (14) conducts special programs as appropriate to develop feature stories; (15) conducts employee research to enhance and improve CDC Connects and other channels of employee communication; and (16) provides employees access to information systems, services, and materials that support or promote their health, morale, and work efficiency.

Division of Policy Analysis and Coordination (CAUB). (1) Identifies emerging or cross-cutting policy issues and serves as a catalyst in advancing action; (2) analyzes and contributes to the development of key policy issues; (3) consults with the CDC Director, OEC Director, CDC Leadership Team, CC/COs, and NCs on policy-related issues; (4) serves as the focal point for the policy analysis, technical review, and final clearance of correspondence and policy documents that require approval from the CDC Director and the CDC Leadership Team, and for a wide variety of documents that require the approval of various officials within DHHS; (5) acts as a primary liaison between CDC and the DHHS Office of the Secretary; (6) provides a forum for discussion and decision-making on policy-related issues; (7) manages the flow of decision documents and correspondence for action by the CDC Director; (8) coordinates Inspector General and General Accounting Office audit activities; (9) maintains all official records relating to the decisions and official actions of the CDC Director; and (10) ensures consistent application of CDC correspondence standards and styles.

Division of Media Relations (CAUC). (1) Plans, organizes, administers, and, when appropriate, implements CDC's media activities consistent with policy direction established by the Assistant Secretary for Public Affairs, DHHS; (2) provides leadership in the development of CDC's priorities, strategies, and practices for effective media relations; (3) provides for the content, policy review, and clearance of media materials including press releases, press kits, talking points, letters to editors, and fact sheets; (4) provides the public, through media channels, access to information systems, services, and materials that support or promote the health of individuals and communities; (5) manages and responds to media requests for access to subject matter experts, reports, and publications; (6) assists the CC/COs, NCs, offices, and their constituents in identifying and building needed expertise, technology, logistical support, and other capacities required for effective media relations; (7) creates and maintains liaison with the CC/COs, NCs, and offices to share information about media relations, encouraging and providing opportunities for CDC-wide collaboration; (8) develops media plans and strategies for the CDC Director and other CDC leaders in developing and disseminating information through the media; (9) coordinates the development, review, clearance, and dissemination of media information among CC/COs and NCs, and between CDC and DHHS; (10) assists CC/COs and NCs in meeting their press-related needs and priorities; (11) provides media training and technical assistance to CDC staff; (12) provides the central point of contact to CDC for media representatives; (13) provides timely, thorough, and appropriate responses to inquiries by media representatives; (14) conducts special activities as appropriate to develop relationships with media representatives; and (15) periodically evaluates CDC's media relations operations, activities, and services, including feedback from internal users, journalists, and consumers.

Dated: September 23, 2005.
William H. Gimson,
Chief Operating Officer, Centers for Disease Control and Prevention (CDC).

[FR Doc. 05-20055 Filed 10-5-05; 8:45 am]

BILLING CODE 4160-18-M